DEPARTMENT OF AGRICULTURE

Rural Utilities Service

Broadband Pilot Grant Program

AGENCY: Rural Utilities Service, USDA.

ACTION: Notice.

SUMMARY: The Rural Utilities Service (RUS) is announcing the process by which Fiscal Year 2003 funding of its pilot grant program for the provision of broadband transmission service in rural America will be made available. For Fiscal Year 2003, $10 million in grants will be made available through the further funding of the national competition announced on July 8, 2002, to provide broadband transmission service on a “community-oriented connectivity” basis. The community-oriented connectivity approach targets rural, economically-challenged communities and offers a means for the deployment of broadband transmission services to rural schools, libraries, education centers, health care providers, law enforcement agencies, public safety organizations as well as residents and businesses. This all-encompassing connectivity concept will give small, rural communities a chance to benefit from the advanced technologies that are necessary to foster economic growth, provide quality education and health care opportunities, and increase and enhance public safety efforts.

DATES: Successful grant applicants will be notified no later than September 15, 2003.

FOR FURTHER INFORMATION CONTACT: Roberta D. Purcell, Assistant Administrator, Telecommunications Program, Rural Utilities Service, U.S. Department of Agriculture, 1400 Independence Avenue, SW., STOP 1590, Room 4056, Washington, DC 20250-1590. Telephone number (202) 720-9554, facsimile (202) 720-0810.

SUPPLEMENTARY INFORMATION: On July 8, 2002, RUS published a Notice of Funds Availability (NOFA) in the Federal Register at 67 FR 45079 announcing its “community-oriented connectivity” pilot grant program for the provision of broadband transmission service in rural America. Twenty million dollars in grant authority was made available to deploy broadband infrastructure to extremely rural, lower income communities on a “community-oriented connectivity” basis. The “community-oriented connectivity” concept integrates the deployment of broadband infrastructure with the practical, everyday uses and applications of the facilities. This broadband access is intended to promote economic development and provide enhanced educational and health care opportunities. RUS provided financial assistance to eligible entities that were proposing to deploy broadband transmission service in rural communities where such service did not currently exist and who would connect the critical community facilities including the local schools, libraries, hospitals, police, fire, and rescue services and who would operate a community center that provides free and open access to residents.

In response to this NOFA, RUS received more than 300 applications totaling more than $185 million in funding requests. As part of a national competition, RUS reviewed the applications for eligibility and scored the applications according to the rurality of the project, the economic need of the project service area, and the community benefits to be derived from the proposed service. On May 16, 2003, Secretary of Agriculture, Ann Veneman, announced the 40 highest scoring grants totaling $20,184,642. This announcement fully utilized RUS’ 2002 appropriation.

Due to the overwhelming response to the July 8, 2002, NOFA, RUS has eligible applications on hand totaling more than the $10 million appropriation received for Fiscal Year 2003. To eliminate the need for fully eligible applicants to resubmit applications for Fiscal Year 2003, RUS will utilize its 2003 appropriation by funding eligible projects submitted in accordance with the July 8, 2002 NOFA. Announcement of the 2003 appropriation grant awards will be made no later than September 15, 2003.

Dated: June 25, 2003.
Hilda Gay Legg,
Administrator, Rural Utilities Service.

[FR Doc. 03-18191 Filed 7-17-03; 8:45 am]

BILLING CODE 3410-15-P